SMALL BUSINESS ADMINISTRATION

[Disaster Declaration #16603 and #16604; CALIFORNIA Disaster Number CA-00325]

Presidential Declaration Amendment of a Major Disaster for the State of California

AGENCY: U.S. Small Business Administration.

ACTION: Amendment 5.

SUMMARY: This is an amendment of the Presidential declaration of a major disaster for the State of California (FEMA—4558—DR), dated 08/22/2020.

Incident: Wildfires.

Incident Period: 08/14/2020 through 09/26/2020.

DATES: Issued on 10/07/2020.

Physical Loan Application Deadline Date: 11/23/2020.

Economic Injury (EIDL) Loan Application Deadline Date: 05/24/2021.

ADDRESSES: Submit completed loan applications to: U.S. Small Business Administration, Processing and Disbursement Center, 14925 Kingsport Road, Fort Worth, TX 76155.

FOR FURTHER INFORMATION CONTACT: A. Escobar, Office of Disaster Assistance, U.S. Small Business Administration, 409 3rd Street SW, Suite 6050, Washington, DC 20416, (202) 205-6734.

SUPPLEMENTARY INFORMATION: The notice of the President's major disaster declaration for the State of California, dated 08/22/2020, is hereby amended to extend the deadline for filing applications for physical damages as a result of this disaster to 11/23/2020.

All other information in the original declaration remains unchanged.

(Catalog of Federal Domestic Assistance Number 59008)

Cynthia Pitts,
Acting Associate Administrator for Disaster Assistance.

[FR Doc. 2020-23035 Filed 10-16-20; 8:45 am]

BILLING CODE 8026-03-P